NATIONAL AERONAUTICS AND SPACE ADMINISTRATION

[Notice: (22-028)]

National Space-Based Positioning, Navigation, and Timing Advisory Board; Meeting

AGENCY: National Aeronautics and Space Administration.

ACTION: Notice of meeting.

SUMMARY: In accordance with the Federal Advisory Committee Act, as amended, the National Aeronautics and Space Administration (NASA) announces a meeting of the National Space-Based Positioning, Navigation and Timing (PNT) Advisory Board. This will be the 26th meeting of the PNT Advisory Board.

DATES: Wednesday, May 4, 2022, from 9:30 a.m.-5:30 p.m., Eastern Time; and Thursday, May 5, 2022, from 9:00 a.m.-12:00 p.m., Eastern Time.

ADDRESSES: Crowne Plaza Annapolis, Arundel Ballroom, 173 Jennifer Road, Annapolis, MD 21401.

FOR FURTHER INFORMATION CONTACT: Mr. James Joseph Miller, Designated Federal Officer, on (202) 262-0929 or jj.miller@nasa.gov, PNT Advisory Board, Space Operations Mission Directorate, NASA Headquarters, Washington, DC 20546.

SUPPLEMENTARY INFORMATION: This meeting will be open to the public up to the capacity of the meeting room. In-person attendees will be requested to sign a register prior to entrance to the proceedings. Webcast details to watch the meeting remotely will be available on the PNT Advisory Board website at: www.gps.gov/governance/advisory/.

The agenda for the meeting will include the following:

○ Updates from Newly Established PNT Advisory Board Subcommittees:

○ Communications and External Relations (CER) Subcommittee

○ Education and Science Innovation (ESI) Subcommittee

○ Emerging Capabilities, Applications and Sectors (ECAS) Subcommittee

○ International Engagement (IE) Subcommittee

○ Protect, Toughen and Augment (PTA) Subcommittee

○ Strategy, Policy and Governance (SPG) Subcommittee

• Update on U.S. Space-Based Positioning, Navigation and Timing (PNT) Policy and Global Positioning System (GPS) III program development

• Discuss potential improvements to current GPS signal capabilities (authentication, integrity, augmentation, etc.) and GPS user equipment (resistance to jamming, security, resilience, etc.)

• Review of regulatory constraints in the development of multi-GNSS capabilities for improved PNT

• Complementing GPS with other PNT sources

• Deliberations on any findings and recommendations

• Other PNT Advisory Board business and upcoming work plan schedule

For further information, visit the PNT Advisory Board website at: https://www.gps.gov/governance/advisory/.

It is imperative that the meeting be held on this date to meet the scheduling availability of key participants.

Patricia Rausch,
Advisory Committee Management Officer, National Aeronautics and Space Administration.

[FR Doc. 2022-07101 Filed 4-4-22; 8:45 am]

BILLING CODE 7510-13-P